POSTAL SERVICE

39 CFR Part 111

New Pricing Eligibility, Intelligent Mail, and Move Update Standards for Domestic Mailing Services and Shipping Services—Revised Final

AGENCY: Postal Service™.

ACTION: Final rule, revised.

SUMMARY: The Postal Service filed a notice of domestic Mailing Services (and selected Shipping Services) price adjustments with related changes to mailing standards, effective in May 2009, with the Postal Regulatory Commission on February 10, 2009. This notice provides revisions to that final rule.

DATES: Effective May 11, 2009.

FOR FURTHER INFORMATION CONTACT: Bill Chatfield, 202-268-7278.

SUPPLEMENTARY INFORMATION: The Postal Service's final rule published in the Federal Register on February 23, 2009 (Volume 74, Number 34, pages 8009-8033) included revised eligibility standards directly related to prices established by the USPS® Governors. This revised final rule contains corrections to those standards. There have been three pricing changes: to Confirm pricing and eligibility; to Move Update compliance; and to prices for nonmachinable Standard Mail letters over 3.3 ounces. Additionally, we note several corrections to the mailing standards from the February 23, 2009 final rule.

We summarize corrections below and then provide updates to the related mailing standards in Mailing Standards of the United States Postal Service, Domestic Mail Manual (DMM®).

Changes for Standard Mail

Parcels and Not Flat-Machinable Pieces (NFMs)

The Postal Service revised sections 440 and 705 of the DMM to change mail preparation requirements and the pricing structure for Standard Mail® machinable and irregular parcels, and NFMs prepared in sacks and pallets.

In the final rule, we added a new origin-BMC (intra-BMC turnaround) sortation level for all Standard Mail parcels and NFMs with no minimum number of pieces required. Intra-BMC turnaround pieces are those pieces that destinate in the same BMC that serves the office where the pieces are accepted and verified. In summary, mailers with origin-entered mailings must separate intra-BMC turnaround pieces from mixed BMC pieces. In the DMM section of the previously published final rule, we misnamed the origin BMC sack as “origin mixed BMC;” this notice clarifies that the correct name is “origin BMC.” ASF sortation has been added to BMC price eligibility and SCF price eligibility includes sacks or pallets dropshipped to BMCs as well as SCFs. Appropriate changes are made throughout DMM 440. We also provide new content identifier numbers for the new sortation levels in DMM 708.

Prices for Heavy Nonmachinable Letters

Heavy nonmachinable Standard Mail letters (those weighing over 3.3 ounces) currently pay NFM prices, but are sorted as letters to 5-digit, 3-digit, ADC, and mixed ADC levels. The change to sortation for NFMs in May leaves no 3-digit, ADC or mixed ADC prices. Therefore, heavy nonmachinable letters will pay nonautomation flats prices.

Changes for Confirm Service

The Confirm® structure will be different from that which was published in the previous Final Rule. PRC Order No. 191, issued on March 16, 2009, has led to a revised structure for Confirm that does not distinguish between mail owners and mail agents, but keeps the newly added “Bronze” tier. We offered two separate price points for the Gold and Platinum subscription levels to distinguish between a mail owner and a mailing agent, and offered the Bronze and Silver subscription levels only to mail owners. This notice removes the separate pricing and eligibility for mail owners and mailing agents, and removing the higher mailing agent prices for Gold and Platinum subscription levels.

The Confirm-based Preshipment Notification, i.e, Electronic Mailing Data (EMD) files and Entry Scans, including the process for accepting EMD files and distributing Entry Scans, continues until November 29, 2009.

Move Update Implementation Updates

We had announced the establishment of a charge for Standard Mail mailings not meeting Move Update standards effective on May 11, 2009. We are postponing the implementation of this charge. Beginning in January, 2010, we establish a charge for Standard Mail mailings not meeting Move Update standards of $0.07 per piece, in addition to the applicable Standard Mail postage.

Intelligent Mail Updates

In the Intelligent Mail® full-service option section, DMM 705.22, we added clarification that all full-service Periodicals and Bound Printed Matter mailings must be accompanied by electronic submission of postage statements and mailing documentation. The alternative submission method of Postal Wizard for some mailings of less than 10,000 pieces is not appropriate for Periodicals or Bound Printed Matter mailings since those mailings always require supporting mailing documentation.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

200 Commercial Mail Letters and Cards

* * * * *

240 Standard Mail

243 Prices and Eligibility

1.0 Prices and Fees for Standard Mail

* * * * *

1.4 Regular Standard Mail—Nonautomation Prices

[Delete 1.4 price chart in its entirety and substitute “For prices, see Price List Notice 123,” which will include a change to footnote 1 as follows:]

For prices, see Price List—Notice 123.

1. For nonmachinable letters over 3.3 ounces, see Standard Mail nonautomation flats prices.

* * * * *

1.6 Nonprofit Standard Mail—Nonautomation Prices

[Delete 1.6 price chart in its entirety and substitute “For prices, see Price List—Notice 123,” which will include a change to footnote 1 as follows:]

For prices, see Price List—Notice 123.

1. For nonmachinable letters over 3.3 ounces, see Standard Mail nonautomation flats prices.

* * * * *

3.0 Basic Standards for Standard Mail Letters

3.9 Move Update Standard

3.9.1 Basic Standards

[Revise 3.9.1 by inserting a new third sentence into the introductory text as follows:]

* * * Except for mail bearing an alternative address format, addresses used on pieces claiming Standard Mail prices must meet the Move Update standard. Addresses subject to the Move Update standard must meet these requirements:

* * * * *

[Revise item 3.9.1 d by inserting a new postage adjustment as follows:]

d. Effective January 4, 2010, when a mailing is determined by the USPS to not be in compliance with the Move Update standard, each piece in the mailing will be subject to a postage adjustment charge of $0.07 per piece.

* * * * *

300 Commercial Mail Flats

* * * * *

340 Standard Mail

343 Prices and Eligibility

* * * * *

3.0 Basic Standards for Standard Mail Flats

* * * * *

3.9 Move Update Standard

3.9.1 Basic Standards

[Revise 3.9.1 by inserting a new third sentence into the introductory text as follows:]

* * * Except for mail bearing an alternative address format, addresses used on pieces claiming Standard Mail prices must meet the Move Update standard. Addresses subject to the Move Update standard must meet these requirements:

* * * * *

[Revise item 3.9.1 d by inserting a new postage adjustment as follows:]

d. Effective January 4, 2010, when a mailing is determined by the USPS to not be in compliance with the Move Update standard, each piece in the mailing will be subject to a postage adjustment charge of $0.07 per piece.

* * * * *

400 Commercial Mail Parcels

* * * * *

440 Standard Mail

443 Prices and Eligibility

* * * * *

3.0 Basic Standards for Standard Mail Parcels

* * * * *

3.9 Move Update Standard

3.9.1 Basic Standards

[Revise 3.9.1 by inserting a new third sentence into the introductory text as follows:]

* * * Except for mail bearing an alternative address format, addresses used on pieces claiming Standard Mail prices must meet the Move Update standard. Addresses subject to the Move Update standard must meet these requirements:

* * * * *

[Revise item 3.9.1 d by inserting a new postage adjustment as follows:]

d. Effective January 4, 2010, when a mailing is determined by the USPS to not be in compliance with the Move Update standard, each piece in the mailing will be subject to a postage adjustment charge of $0.07 per piece

* * * * *

5.0 Additional Eligibility Standards for Presorted Standard Mail Pieces

* * * * *

5.3 Prices for Machinable Parcels

* * * * *

5.3.2 BMC Price

[Revise introductory sentence of 5.3.2 as follows:]

The BMC price applies to qualifying machinable parcels as follows under either of the following conditions:

[Revise item 5.3.2 a to add dropshipment to an ASF and revise item 5.3.2 b to allow an ASF pallet as follows:]

a. When dropshipped to an ASF or BMC and presented:

1. In an ASF or BMC sack containing at least 10 pounds of parcels, or

2. On an ASF or BMC pallet, according to standards in 705.8.10, or

3. In a BMC/ASF container prepared under 705.20.0.

b. When presented at the origin acceptance office on an ASF or a BMC pallet containing at least 200 pounds of pieces.

[Delete item 5.3.2c in its entirety.]

* * * * *

*

5.4 Prices for Irregular Parcels and Not Flat-Machinable (NFM) Pieces

5.4.1 5-Digit Price

[Revise introductory paragraph of 5.4.1 as follows:]

The 5-digit price applies to irregular parcels and NFMs that are dropshipped to a DBMC (or ASF when claiming DBMC prices), DSCF, or DDU and presented:

* * * * *

[Add new item 5.4.1 e as follows:]

e. For NFMs only, in 5-digit/scheme bundles of five or more pieces on pallets or in pallet boxes under 705.8.0.

* * * * *

5.4.2 SCF Price

[Revise 5.4.2 to add DBMC eligibility as follows:]

The SCF price applies to irregular parcels or NFMs that are dropshipped and presented to a DSCF or DBMC:

a. In an SCF sack containing at least 10 pounds of parcels.

b. On an SCF pallet, according to 705.8.10.

c. In SCF containers prepared under 705.20.0.

5.4.3 BMC Price

The BMC price applies to qualifying irregular parcels or NFMs as follows under either of the following conditions:

[Revise item 5.4.3 a to add dropshipment to an ASF and revise item 5.4.3 b to allow an ASF pallet as follows:]

a. When dropshipped to an ASF or BMC and presented:

1. In an ASF or BMC sack containing at least 10 pounds of parcels, or

2. On an ASF or BMC pallet, according to standards in 705.8.10, or

3. In a BMC/ASF container prepared under 705.20.0.

b. When presented at the origin acceptance office on an

ASF or a BMC pallet containing at least 200 pounds of pieces.

* * * * *

445 Mail Preparation

* * * * *

5.0 Preparing Presorted Parcels

* * * * *

5.3 Preparing Machinable Parcels

* * * * *

5.3.2 Sacking and Labeling

Preparation sequence, sack size, and labeling:

* * * * *

[Revise item 5.3.2 d to read “Origin BMC” as follows:]

d. Origin BMC (required); no minimum; labeling:

1. Line 1: L601, Column B.

2. Line 2: “STD MACH BMC.”

* * * * *

5.4 Preparing Irregular Parcels

* * * * *

5.4.4 Sacking and Labeling

Preparation sequence, sack size, and labeling:

* * * * *

[Revise item 5.4.4 b to add DBMC eligibility as follows:]

b. SCF, allowed only for mail deposited at a DSCF or a DBMC to claim SCF price; 10-pound minimum; labeling:

1. For Line 1, L002, Column C.

2. For Line 2, “STD IRREG SCF.”

[Revise item 5.4.4 e to designate as “Origin BMC” as follows:]

e. Origin BMC (required); no minimum; labeling:

1. Line 1: L601, Column B.

2. Line 2: “STD IRREG BMC.”

* * * * *

6.0 Preparing Not Flat-Machinable Pieces

* * * * *

6.3 Sacking and Labeling

* * * * *

6.3.2 NFM Pieces Weighing Less Than 6 Ounces

Preparation sequence, sack size, and labeling for sacks of NFM pieces that weigh less than 6 ounces:

* * * * *

[Revise item 6.3.2 b to add DBMC eligibility as follows:]

b. SCF, allowed only for mail deposited at a DSCF or a DBMC to claim SCF price; 10-pound minimum; labeling:

1. For Line 1, L002, Column C.

2. For Line 2, “STD NFM SCF.”

[Revise item 6.3.2 e to rephrase as “Origin BMC” as follows:]

e. Origin BMC (required); no minimum; labeling:

1. Line 1: L601, Column B.

2. Line 2: STD NFM BMC.”

* * * * *

6.3.3 NFM Pieces Weighing 6 Ounces or More

Preparation sequence, sack size, and labeling for sacks of NFM pieces that weigh 6 ounces or more:

* * * * *

[Revise item 6.3.3 e to rephrase as “Origin BMC” as follows:]

d. Origin BMC (required); no minimum; labeling:

1. Line 1: L601, Column B.

2. Line 2: “STD NFM MACH BMC.”

* * * * *

500 Additional Mailing Services

503 Extra Services

* * * * *

13.0 Confirm Service

13.1 Confirm Fees

13.1.1 Fee

Fee, in addition to postage and other fees:

[Revise table of 13.1.1. to read as follows:]

Subscription level | Subscription fee and term | Additional ID code registration fee and term | Additional scans fee and number
Bronze | $1,000 12 months | $900 each 3 months, $2,500 annual | $250, block of 10,000 scans.
Silver | $2,000 3 months | $900 each 3 months | $500 block of 2 million scans.
Gold | $7,500 12 months | $900 each 3 months, $2,500 annual | $800 block of 6 million scans.
Platinum | $25,000 12 months | $900 each 3 months, $2,500 annual | NA.

* * * * *

13.2 Basic Information

13.2.1 Description

[Revise the second sentence of 13.2.1 to read as follows:]

* * *Scanned data can include the postal facility where such pieces are processed, the postal operation used to process the pieces, the date and time when the pieces are processed, and the numeric equivalent of a barcode(s) that help to identify the specific pieces. * * *

* * * * *

13.2.7 Subscription Levels

[Revise 13.2.7 to read as follows:]

A customer may subscribe to one or more of the following levels at the same time, at different times, or at overlapping times:

a. Bronze Subscription. The Bronze subscription level has a term of 12 consecutive months, includes registration of one identification code assigned by the USPS, and provides up to 200,000 scans. A customer subscribing to this level may also:

1. Register additional identification codes for a term of 3 consecutive months or until the expiration of the underlying subscription, whichever occurs first.

2. License additional scans in blocks of 10,000 scans at any time before the underlying subscription expires. Unused scans expire at the end of the subscription term.

3. Change the subscription level to a Gold or Platinum subscription level at any time before the expiration of the Bronze subscription by paying the difference of the respective subscription fees. This change in service level does not extend the term of the underlying initial subscription.

b. Silver Subscription. The Silver subscription level has a term of 3 consecutive months, includes registration of one identification code assigned by the USPS, and provides up to 15 million scans. A customer subscribing to this level may also:

1. Register additional identification codes for a term of 3 consecutive months or until the expiration of the underlying subscription, whichever occurs first.

2. License additional scans in blocks of 2 million scans at any time before the underlying subscription expires. Unused scans expire at the end of the subscription term.

c. Gold Subscription. The Gold subscription level has a term of 12 consecutive months, includes registration of one identification code assigned by the USPS, and provides up to 50 million scans. A customer subscribing to this level may also:

1. Register additional identification codes for a term of 3 consecutive months or until the expiration of the underlying subscription, whichever occurs first.

2. License additional scans in blocks of 6 million scans at any time before the underlying subscription expires. Unused scans expire at the end of the subscription term.

3. Raise the subscription level to a Platinum subscription level at any time before the expiration of the Gold subscription by paying the difference of the respective subscription fees. This change in service level does not extend the term of the underlying initial subscription.

d. Platinum Subscription. The Platinum subscription level has a term of 12 consecutive months, includes registration of three identification numbers assigned by the USPS, and provides an unlimited number of scans. A customer subscribing to this level may also license additional identification codes for a term of 3 consecutive months or until the expiration of the underlying subscription, whichever occurs first.

* * * * *

700 Special Standards

* * * * *

705 Advanced Preparation and Special Postage Payment Systems

* * * * *

22.0 Full-Service Automation Option

* * * * *

22.3 Preparation

* * * * *

22.3.4 Electronic Documentation

[Revise the last sentence in 22.3.4 to clarify that electronic documentation is required for all Periodicals and Bound Printed Matter mailings as follows:]

Mailers must electronically submit postage statements and mailing documentation (when required) to the PostalOne! system. Unless otherwise authorized, documentation must describe how each mailpiece is linked to a uniquely identified tray or sack, if applicable, and how each mailpiece and tray or sack is linked to a uniquely identified container (if applicable). The documentation must also meet the requirements in A Guide to Intelligent Mail for Letters and Flats (available at ribbs.usps.gov). Mailers must transmit postage statements and mailing documentation to the PostalOne! system using Mail.dat, Mail.XML, or Postal Wizard (see 22.4.3), except that mailers of full-service Periodicals letters and flats and Bound Printed Matter flats cannot use Postal Wizard and must electronically submit postage statements and mailing documentation in all instances.

* * * * *

22.4.3 Special Standards—Small Volume Mailings

[Revise the third sentence in 22.4.3 to clarify electronic documentation is required for all Periodicals and Bound Printed Matter mailings as follows:]

For mailings of fewer than 10,000 pieces, and postage is affixed to each piece at the correct price or each piece is of identical weight and the mailpieces are separated by price, the serial number field of each Intelligent Mail barcode can be populated with a mailing serial number that is unique to the mailing but common to all pieces in the mailing. This unique mailing serial number must not be reused for a period of 45 days from the date of mailing. These mailings are not required to submit electronic documentation for full-service, only an electronic postage statement; except mailers of full-service Periodicals letters and flats and Bound Printed Matter flats must submit electronic documentation and an electronic postage statement. Unique mailing serial numbers must be populated in the Postal Wizard entry screen field or in the Mail.XML messages. Mailers must populate the serial number field of all Intelligent Mail tray labels and Intelligent Mail container barcodes with the unique mailing serial number.

* * * * *

708 Technical Specifications

1.0 Standardized Documentation for First-Class Mail, Periodicals, Standard Mail, and Flat-Size Bound Printed Matter

* * * * *

1.3 Price Level Column Headings

* * * * *

b. Presorted First-Class Mail, barcoded and nonbarcoded Periodicals flats, nonbarcoded Periodicals letters, and machinable and nonmachinable Standard Mail:

[Revise the table in item b to add a new fourth row with the following information:]

Price | Abbreviation
* * * *
SCF (for Standard Mail parcels and NFMs) | SCF

* * * * *

6.0 Standards for Barcoded Tray Labels, Sack Labels, and Container Placards

* * * * *

6.2 Specifications for Barcoded Tray and Sack Labels

6.2.4 3-Digit Content Identifier Numbers

* * * * *

Exhibit 6.2.4 3-Digit Content Identifier Numbers

* * * * *

Standard Mail

* * * * *

STD Not Flat-Machinable Pieces Less Than 6 Ounces—Nonautomation

[Revise the table as follows:]

5-digit scheme sacks | 500 | STD NFM 5D SCH
5-digit sacks | 500 | STD NFM 5D
SCF sacks | 507 | STD NFM SCF
ASF sacks | 509 | STD NFM ASF
BMC sacks | 505 | STD NFM BMC
mixed BMC sacks | 506 | STD NFM WKG

STD Not Flat-Machinable Pieces 6 Ounces Or More—Nonautomation

[Revise the table as follows:]

5-digit scheme sacks | 500 | STD NFM MACH 5D SCH
5-digit sacks | 500 | STD NFM MACH 5D
ASF sacks | 503 | STD NFM MACH ASF
BMC sacks | 514 | STD NFM MACH BMC
mixed BMC sacks | 518 | STD NFM MACH WKG

* * * * *

STD Irregular Parcels—Presorted

[Revise the table as follows:]

5-digit scheme sacks | 590 | STD IRREG 5D SCH
5-digit sacks | 590 | STD IRREG 5D
SCF sacks | 596 | STD IRREG SCF
ASF sacks | 571 | STD IRREG ASF
BMC sacks | 570 | STD IRREG BMC
mixed BMC sacks | 594 | STD IRREG WKG

* * * * *

Index and Appendices

* * * * *

Labeling Lists

* * * * *

L000 General Use

* * * * *

[Revise the heading and text of L009 to delete “Standard Mail irregular parcels” to read as follows:]

L009 Mixed ADCs—Periodicals, Package Services Flats and Irregular Parcels and Standard Mail Flats

Mailers must use L009 to label mixed ADC bundles and sacks of Periodicals, Standard Mail, Bound Printed Matter, Media Mail, and Library Mail flats. Mailers also must use L009 to label mixed ADC bundles and sacks containing Periodicals irregular parcels and Bound Printer Matter irregular parcels.

* * * * *

We will publish an appropriate amendment to 39 CFR Part 111 to reflect these changes.

Stanley F. Mires,
Chief Counsel, Legislative.

[FR Doc. E9-7569 Filed 4-3-09; 8:45 am]

BILLING CODE 7710-12-P